DEPARTMENT OF COMMERCE

Census Bureau

The Census 2000 Count Question Resolution Program

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C.3506(c)(2)(A)).

DATES: Written comments must be submitted on or before March 23, 2001.

ADDRESSES: Direct all written comments to Madeleine Clayton, Departmental Forms Clearance Officer, Department of Commerce, Room 6086, 14th and Constitution Avenue, NW, Washington, DC 20230 (or via the Internet at mclayton@doc.gov).

FOR FURTHER INFORMATION CONTACT: Requests for additional information and instructions should be directed to Robert A. Rinaldi, Assistant Division Chief, Decennial Management Division, U.S. Census Bureau, SFC-2, Room 2002, Washington, DC 20233-001. Telephone: 301-457-8226; fax: 301-457-8328; or e-mail: Count.Question.Resolution@census.gov

SUPPLEMENTARY INFORMATION:

I. Abstract

This notice provides information concerning the Census 2000 Count Question Resolution (CQR) program that will be implemented to respond to challenges to the Census 2000 housing unit counts and group quarters counts received from local and tribal governmental entities in the U.S. and Puerto Rico. This program will become effective on June 30, 2001, and will end on September 30, 2003.

After the release of Census 2000 Public Law 94-171 redistricting data containing population counts and the Demographic Profiles and Summary File 1 (SF1) that contain the number of housing units and group quarters population counts, some governmental entities may want to challenge these official Census 2000 counts.

Challenges to the overseas counts of persons in the military and Federal civilian personnel stationed overseas and their dependents living with them will not be accepted. These overseas counts are obtained using administrative records and will be used solely for reapportioning seats in the U.S. House of Representatives and do not provide the substate geographic information required for the CQR program.

No additional data will be collected as part of the CQR program. We will only use those data that have already been collected. The Census Bureau will respond to all questions and will notify all affected governmental entities of any corrections to their official counts as a result of CQR. All challenges should be sent to the Census Bureau's headquarters. (The specific mailing address and a glossary of terms are provided in the Exhibit at the end of this notice's Method of Collection section.)

Background

The Census Bureau implemented the Local Update of Census Addresses (LUCA) program for Census 2000. Participating local and tribal governments were given the opportunity to review and update the Census Bureau's address list before it was used for the actual census enumeration. In cases where the local or tribal government and the Census Bureau could not agree on the housing unit address list, the governmental unit could use an appeal process administered by the Census Address List Appeals Office. The Census Bureau also used the LUCA Special Places program to involve local and tribal governments in helping to identify special places, such as college dormitories, nursing homes and other types of group living arrangements.

In addition to LUCA, governmental units with city-style address areas had another opportunity to update the Census 2000 address list for the New Construction program. We also conducted the Boundary and Validation program, in which we provided local officials with maps that showed boundaries of their jurisdiction and asked them to make corrections, if necessary.

The Census Bureau had a comprehensive program to improve the quality of the housing unit counts. A number of extensive operations afforded other opportunities for additions, corrections, and deletions of census addresses and corrections of population counts. Between May and August 2000, the Coverage Edit Follow-up operation resolved population count discrepancies and obtained additional information on households with more than six persons. The Coverage Improvement Follow-up (CIFU) operation (June-August 2000) enumerated housing units that were inaccurately classified as vacant or nonexistent in an earlier census operation. It also enumerated added housing units discovered in an earlier census operation; housing units added through the LUCA 98 and 99 appeals process; new addresses from periodic postal updates; blank or missing mail return forms; and addresses provided in the New Construction update by local and tribal governments.

During July and August 2000, the Residual Nonresponse Follow-up operation completed questionnaires for housing units where identification numbers existed for forms that were checked out of the Local Census Office, were not included in CIFU, and did not have census data captured. The Field Verification operation (July-August 2000) verified specific addresses that did not match the Decennial Master Address File. Another operation, Population Unknown Supplementary (July-August 2000), was conducted to determine the number of people in housing units that the Nonresponse Follow-up operation (April-June 2000) had identified as occupied, but the number of occupants were unknown.

Data collection for Census 2000 ended in the Local Census Offices on or before August 30, 2000. This schedule was needed to allow the Census Bureau time to produce the state level apportionment counts by December 31, 2000, as required by law.

The Census Bureau also conducted the Accuracy and Coverage Evaluation operation that includes a coverage measurement survey that is expected to determine and correct for the number of people and housing units missed or erroneously included in Census 2000. This survey, a nationwide sample survey of about 314,000 housing units, was conducted by the Census Bureau independently of Census 2000. All enumeration activities, as well as person interviewing follow-up, were completed by late November 2000.

Although many local and tribal governments participated in the LUCA and New Construction programs and the Census Bureau conducted an extensive quality improvement program, the Census Bureau still expects to receive challenges after it releases the official Census 2000 housing unit and group quarters population counts contained in the Demographic Profiles, which are scheduled for release between June and September 2001. The CQR start date of June 30, 2001, also is coordinated with the release of the Summary File 1 (SF1) on a state-by-state basis between June and September 2001. The SF1 will contain block-level data on the number of housing units. It also will show group quarters population counts by blocks.

The Bureau of the Census (Census Bureau) must be contacted directly by officials of local and tribal governments in order to initiate the challenge process. However, the Census Bureau also will accept challenges from county clerks, city planners, local planning board representatives, and state legislative representatives with redistricting functions within each state and state equivalents who are acting on the behalf of a local or tribal jurisdiction.

Types of Corrections That Will Be Considered for the Census 2000 CQR Program

Corrections for three types of challenges will be made as a result of the Census 2000 CQR program. (For acceptable documentation to initiate such challenges, refer to the Method of Collection section, “Criteria for Acceptable Documentation Necessary to Initiate the Census 2000 CQR Process.”)

(1) Boundary corrections—Census 2000 respects the proper alignment of the jurisdictional boundaries of functioning governmental units as legally in effect on January 1, 2000. The Census Bureau needs to ensure that the geographic assignment information provided does not, in fact, reflect boundary changes made after January 1, 2000. Problems, such as the inaccurate reporting of jurisdictional boundaries and the inaccurate recording of such boundaries by the Census Bureau, will be addressed by the CQR program. The boundaries of other geographic and statistical areas, such as census designated places, census tracts, voting districts, school districts, and the like are not in the scope of the Census 2000 CQR program.

(2) Geocoding corrections—placement of living quarters and associated population within the correct boundaries, census blocks, and the like. Even if the CQR process does not result in a change to the total count for a local or tribal jurisdiction, we will send a letter to the local or tribal government official when the Census Bureau moves group quarters or housing units to different blocks within the jurisdiction.

(3) Coverage corrections—specific living quarters and persons residing therein that were identified during the Census 2000 process but erroneously included or excluded due to processing errors; these corrections could be additions or deletions.

Changes That Result in Corrections

The corrected CQR counts that are issued are based on the housing unit and population counts as of April 1, 2000. The new official census counts may be used by the governmental entities for all programs requiring official Census 2000 data. The Census Bureau will not make corrections to the data concerning the characteristics of the population and housing inventory. The corrected counts will be reflected in the Census Bureau's decennial file modified for use in making postcensal estimates that will be released on a flow basis beginning in December 2002. An inventory of corrections also will be available on the American FactFinder Internet Data Access System (errata) and updated periodically. The base files for the census will remain unrevised so that none of the standard Census 2000 data products will reflect the corrections.

Challenges That Do Not Result in Corrections

When a local or tribal government provides evidence that the Census Bureau missed housing units or group quarters that existed on April 1, 2000, but the CQR research and Census 2000 records show that all of the Census Bureau's boundary information, geocoding, and processing were correctly implemented, the Census Bureau will respond by sending a letter to the official or his/her representative stating that the Census Bureau will maintain the documentation for consideration in the context of address list updating activities over the decade.

Internal Census Bureau Review

Changes to the boundaries or counts for a jurisdiction also may result from Census Bureau initiated research and review of census files. The Census Bureau reviews Census 2000 data by checking for data reasonableness, internal and intra-product consistency, and consistency with historical and external data sources. This review process begins with an analysis by Census Bureau staff, the Federal-State Cooperative Program for Population Estimates and others. These reviewers identify, address, and/or explain issues or problems related to coverage, content, processing, and geocoding. Unresolved potential problems will be forwarded to the CQR staff for additional analysis. Changes made as result of this internal review and/or research will be incorporated into the CQR process and documented in the same way that changes based on jurisdictional CQR challenges will be documented. In cases where changes to the housing unit and/or population counts are made, new official counts will be issued to the affected jurisdictions.

II. Method of Collection

Criteria for Acceptable Documentation Necessary To Initiate the Census 2000 CQR Process

The Census Bureau will require documentation before committing resources to investigate concerns raised by local and tribal officials or their representatives about boundary and geographic assignment errors or the accuracy of the census housing unit or group quarters population counts. In general, when submitting a challenge, governmental entities must:

• Specify whether the challenge disputes the location of a governmental unit boundary or the number of housing units and/or group quarters population counts in one or more tabulation blocks.

• For boundary disputes, indicate on a map the location of the governmental unit boundary in dispute; that is, it must be shown where the Census Bureau incorrectly depicts the boundary and show the correct boundary legally in effect as of January 1, 2000. (For types of maps that can be used, refer to the section “Types of Acceptable Paper Maps.”)

• For housing unit challenges, identify the specific Census 2000 tabulation block that is being contested and a list of the addresses of all housing units in that block on April 1, 2000. (See the section “Challenge Criteria: Housing Unit Count.”)

• For group quarters (see Census Bureau group quarters definition listed under “Definition of Key Terms”) challenges, provide the name of the group quarters and evidence, e.g., a listing of patients residing in the XYZ Nursing Home as of April 1, 2000, that supports the number of persons residing there on April 1, 2000, as necessary, and show the specific Census 2000 tabulation block in which the group quarters population is being contested.

• Provide electronic or paper versions of documentation to support the challenge.

Boundary Challenge Criteria

All governmental unit boundary challenges must be based on boundaries that were legally in effect on January 1, 2000. The Census Bureau will compare the maps and appropriate supporting documentation submitted by the challenging entity with the information used by the Census Bureau to depict the boundaries for Census 2000.

Maps submitted by local and tribal governments must show the correct location of the boundary and the portion of the boundary that the Census Bureau depicted incorrectly, including the Census 2000 tabulation block numbers associated with the boundary. The local or tribal government also should provide the Census Bureau with a list of addresses in affected tabulation blocks, indicating their location in relationship to the boundary requiring correction.

For boundary changes affected by legal actions not recorded by the Census Bureau, local or tribal governments must submit the effective date and the ordinance number or law that effectuated the change in boundaries, provide evidence that the state certifying official has approved the boundary change, and provide a statement that the boundary is not under litigation. The change also must be certified by a local official. Regardless of whether the Census Bureau changes boundaries or does not change boundaries as a result of the CQR evidence and the Census Bureau's research, the Census Bureau will notify the complainant and any affected adjacent governmental entity(es) of the results.

Types of Acceptable Paper Maps

• Paper Census 2000 Public Law 94-171 County Block Maps—These maps will accompany the Redistricting Data Summary Files.

• Paper Census 2000 Redistricting Block Maps for Washington, DC.

• Paper Census 2000 Redistricting Municipio Block Maps for Puerto Rico—These maps will accompany the Puerto Rico Redistricting Data File.

• Paper Census 2000 Block Maps—These maps will be provided to local and tribal jurisdictions and will show tabulation block numbers. They are a companion map for the Demographic Profiles that will contain information on population totals, including group quarters and selected population and housing characteristics.

• Paper Maps based on the 2000 TIGER/Line® File—These maps are generated by local or tribal governments based on information from the Census Bureau's 2000 TIGER/Line® files using commercial geographic information systems.

• Other Paper Maps Showing Census Bureau 2000 Tabulation Block Numbers and Boundaries—These maps should show geographic boundaries as of January 1, 2000, that identify census tabulation blocks, census tracts, legal and statistical entities and state boundaries; maps depicting data collection blocks cannot be used. In general, maps should be comparable to Census 2000 maps.

Challenge Criteria

Housing Unit Count

Supporting evidence that specifically reflects the validity of any address list source must reflect residential addresses that existed as viable living quarters on April 1, 2000. Challenges to housing unit counts must specify the tabulation block(s) for which the counts are being challenged.

SF1 can be used to obtain tabulation block housing unit counts. Complainants must provide a complete address list for all units that should be included in each contested block. (Refer to the section “Types of Address Lists.”)

Local or tribal officials must certify that the addresses on their lists existed and could be lived in on April 1, 2000. See Census Bureau “housing unit” definition listed under “Definitions of Key Terms.”

Group Quarters Population Count

Supporting evidence that specifically reflects the validity of any address list source should be dated no later than April 1, 2000. Challenges to group quarters population counts must specify the tabulation block(s) for which the counts are being challenged. A group quarters is defined as a place where people live or stay other than the usual house, apartment, or mobile home. Two general types of group quarters are recognized: institutional (for example, nursing homes, mental hospitals or wards, hospital or wards for chronically ill patients, hospices, and prison wards) and noninstitutional (for example, college or university dormitories, military barracks, group homes, shelters, missions, and flophouses). Group quarters may have housing units on the premises for staff and/or guests.

SF1 can be used to obtain tabulation block group quarters population counts. Complainants must provide a complete address list (refer to the section “Types of Address Lists”) for all group quarters units that should be included in each contested block. (For the definition of group quarters, see the section “Definitions of Key Terms.”)

The local or tribal official should certify that the addresses on their lists existed and could be lived in on April 1, 2000.

Types of Address Lists

• City-Style Address Lists—Must contain city-style addresses (house number, street name, post office name, state, and ZIP Code) organized by Census 2000 tabulation block within census tract. Housing unit identifiers in multi-unit buildings (such as apartment numbers) must be included, if applicable.

• Non-City-Style Address Lists—Non-city-style addresses must be keyed to the local or tribal government's map-spotted maps, that is, maps that show the exact location of the housing unit. The list should be focused on the specific area and/ or addresses where the problem exists. All housing units in the disputed block must be map spotted and a description of the housing unit and location must be supplied. The following is an example of a map-spotted address and housing unit description: Map Spot 4567-01, Derby Road, 2-story house on left with red brick chimney, 6 houses from the intersection of Highways 12 and 19, Anytown, Georgia 10020.

Group Quarters Information

Provide the name, address, and telephone number for the administrative office of the facility (special place and group quarters) as of April 1, 2000. In addition, provide the census tract and tabulation block number for the location of the group quarters.

Statistical Corrections

The data produced by the Census Bureau may be corrected by applying statistical techniques to the data files. Challenges to the Census Bureau will be investigated based on the data without the statistical correction.

Census Bureau Actions

The Census Bureau will investigate challenges to determine whether information about the existence of a housing unit or occupied group quarters on April 1, 2000, was identified but does not appear in the final census files due to an error in processing the information. The Census Bureau will not collect new information.

Definitions of Key Terms

American FactFinder—The generalized electronic system for access and dissemination of much of Census Bureau data. The system is available through the Internet and offers prepackaged data products and the ability to build custom products. The system serves as the vehicle for accessing and disseminating data from Census 2000 (as well as the 1997 Economic Censuses and the American Community Survey).

Census Block—A geographic area bounded on all sides by visible or nonvisible features shown on census maps. A block is the smallest geographic entity for which the Census Bureau collects and tabulates decennial census information. See also block boundary, block number, collection block, statistical entity, and tabulation block.

Census Tract—Small, relatively permanent statistical subdivisions of counties delineated by local committees of census data users in accordance with Census Bureau guidelines for the purpose of collecting and presenting decennial census data. These neighborhoods contain between 1,000 and 8,000 people, typically approximately 1,700 housing units and 4,000 people.

Census Designated Place—A geographically defined statistical entity delineated for each decennial census according to Census Bureau guidelines comprising a densely settled concentration of population that is not incorporated or established by law but is locally recognized and identified by a name.

County—A type of governmental unit that is the primary legal subdivision of every state except Alaska and Louisiana (which have boroughs and parishes, respectively).

Demographic Profile—A one-page table containing data at the place level that shows information on total population, sex, age, race, Hispanic or Latino origin, household relationship, group quarters population, household type, housing occupancy, and housing tenure.

Group quarters—A place where people live or stay other than the usual house, apartment, or mobile home. The Census Bureau recognizes two general types of group quarters: institutional (for example, nursing homes, mental hospitals or wards, hospital or wards for chronically ill patients, hospices, and prison wards) and noninstitutional (for example, college or university dormitories, military barracks, group homes, shelters, missions, and flophouses). Special places may have housing units on the premises for staff or guests.

Housing unit—A house, an apartment, a mobile home or trailer, a group of rooms, or a single room that is occupied as a separate living quarters, or, if vacant, is intended for occupancy as a separate living quarters. A housing unit is defined as a living quarters that is closed to the elements and has all exterior windows and doors installed and final usable floors in place. For vacant units, the criteria of separateness and direct access are applied to the intended occupants, whenever possible. If that information cannot be obtained, the criteria are applied to the previous occupants.

Local Census Office—A temporary Census Bureau office established for Census 2000 data collection purposes. These offices managed address listing field work, conducted local recruiting, and created a local presence. They were called “district office” in previous censuses.

Municipio—A primary legal subdivision of Puerto Rico (synonymous to a county).

Overseas counts—Counts of military and Federal civilian personnel stationed overseas and their dependents living with them.

Postcensal Estimates—Population estimates for the years following the last published decennial census. Existing data series, such as births, deaths, Federal tax returns, medicare enrollment, and immigration and housing unit information are used to update the decennial census counts during the estimating process. These estimates are used in Federal funding allocations, monitoring recent demographic trends, and benchmarking may federally funded survey totals.

Public Law 94-171—The Federal law amending Section 141 of Title 13 directing the Secretary of Commerce (who delegates that responsibility to the Director of the Census Bureau) to provide selected decennial census data tabulations to the states by April 1 of the year following the census. These tabulations are used by the states to redefine the areas included in each Congressional District and the areas used for state and local elections, a process called redistricting.

Special Place—A place containing one or more group quarters, including hotels and campgrounds. A special place also may include housing units occupied by staff or guests.

Summary File 1—A data file that presents counts and basic cross-tabulations of information collected from all people and housing units. This information includes age, sex, race, Hispanic or Latino origin, household relationship, and whether the residence is owned or rented. Data will be available down to the block level for many tabulations, but limited to the census tract level in cases where there are concerns with disclosure. Summaries also will be included for other geographic areas, such as ZIP Code Tabulation Areas and Congressional Districts.

Exhibit—Additional Information

This section provides additional information on how the Census 2000 CQR program will operate.

1. Where Should a Governmental Unit Submit a Challenge for the Census 2000 CQR program?

Governmental units challenging the completeness or accuracy of the Census 2000 counts should submit their challenge in writing to: Count Question Resolution Program, Room 2002, SFC—2, Decennial Management Division, U.S. Census Bureau, Washington, DC 20233-0001.

2. Will the Census Bureau Make Corrections to the Census Counts Based on Information Submitted by Governmental Units?

The Census Bureau will make corrections if research indicates they are warranted. Our experience has shown that many of the questions received from the local or tribal officials do not reflect errors in census counts. Questions may result from an incorrect or incomplete understanding of the procedures used to take the census. In other instances, questions about census counts reflect a local or tribal official's reliance on different enumeration concepts, definitions, geographic assignments, and/or the currency of the information in comparison to the census. The Census Bureau's determination of whether a correction is necessary will be based on the quality and completeness of the information provided by local and tribal governmental unit representatives and the results of the Census Bureau's review of the census records.

3. Will the Census Bureau Incorporate Corrections From the CQR Process Into the Apportionment or Redistricting Data or Subsequent Data Products?

The Census Bureau will not change the apportionment counts to reflect corrections resulting from the CQR process. The apportionment counts were delivered to the President on December 28, 2000.

The Census Bureau will begin delivery of the counts required for redistricting purposes in March 2001 and will complete this delivery by the statutory deadline of April 1, 2001. The Census Bureau will not incorporate CQR corrections into the redistricting data and subsequent data products for Census 2000. This process will allow the Census Bureau to maintain consistency between data products while maintaining the schedule for timely release of the data. However, the Census Bureau will issue a revised official Census 2000 population and housing unit counts for the affected governmental entity(es), maintain a list of CQR corrected areas on the American Factfinder, and will incorporate any corrections into its Postcensal Estimates program beginning in December 2002.

III. Data

OMB Number: Not available.

Form Number: None.

Type of Review: Regular collection.

Affected Public: Local governmental jurisdictions in the United States and Puerto Rico.

Estimated Number of Respondents: Approximately 3,000 annually.

Estimated Time Per Response: 5.2 hours ( based on an average challenge of 40 housing units).

Estimated Total Annual Burden Hours: 15,600 hours.

Estimated Total Annual Cost: $244,440.00.

Respondent's Obligation: Voluntary.

Legal Authority: Title 13, USC, Section 141.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 12, 2001.
Madeleine Clayton,
Departmental Forms Clearance Officer, Office of the Chief Information Officer.

[FR Doc. 01-1564 Filed 1-19-01; 8:45 am]

BILLING CODE 3510-07-P